DEPARTMENT OF EDUCATION

[CFDA No. 84.358A]

Small, Rural School Achievement Program

AGENCY: Office of Elementary and Secondary Education, Department of Education.

ACTION: Notice announcing application deadline.

SUMMARY: Under the Small, Rural School Achievement Program, we will award grants on a formula basis to eligible local educational agencies (LEAs) to address the unique needs of rural school districts. In this notice, we announce the deadline for eligible LEAs to apply for fiscal year (FY) 2002 funding under the program and indicate that all applications must be submitted electronically.

Application Deadline: July 9, 2002.

SUPPLEMENTARY INFORMATION: An LEA is eligible for an award under the Small, Rural School Achievement Program if—

(a) The total number of students in average daily attendance at all of the schools served by the LEA is fewer than 600; or each county in which a school served by the LEA is located has a total population density of fewer than 10 persons per square mile; and

(b) All of the schools served by the LEA are designated with a school locale code of 7 or 8 by the Department's National Center for Education Statistics; or the Secretary has determined, based on a demonstration by the LEA and concurrence of the SEA, that the LEA is located in an area defined as rural by a governmental agency of the State.

We previously requested each SEA to provide, on behalf of their LEAs, data that the Department needs to determine eligibility and calculate FY 2002 allocations under the Small, Rural School Achievement Program. (A copy this request and information concerning the program is available on the Department's web site at http://wwe.ed.gov/offices/OESE/reap.html.) On February 21, 2002, we also published a notice in the Federal Register (67 FR 8014-8015) announcing the acceptability of alternative average daily attendance (ADA) data and establishing an April 1, 2002 deadline for States to submit ADA and other eligibility and allocation data to the Department. On the basis on the information that States have provided to us, we will award formula grants to eligible LEAs that submit a timely application for funds under the program.

We are now establishing a deadline for the submission of LEA applications, because the precise amount of funding that an eligible LEA will receive under the program for FY 2002 is affected by whether other eligible LEAs throughout the country participate in the program. The Department cannot determine final allocations under the Small, Rural School Achievement Program without a deadline for the submission of applications.

Electronic Submission of Applications: To receive its share of FY 2002 funding, an eligible LEA must submit an electronic application to the Department by July 8, 2002. Submission of an electronic application involves the use of the Electronic Grant Application System (e-APPLICATION, formerly e-GAPS) portion of the Grant Administration and Payment System (GAPS).

You can access the electronic application for the Small, Rural School Achievement Program at: http://e-grants.ed.gov.

Once you access this site, you will receive specific instructions regarding the information to include in your application.

The regular hours of operation of the e-Grants Web site are from 6 a.m. until 12 midnight (Washington, DC time) on Mondays, Tuesdays, Thursdays and Fridays; and from 6 a.m. until 7 p.m. on Wednesdays and Saturdays. The system is unavailable on the second Saturday of every month, Sundays, and Federal holidays.

FOR FURTHER INFORMATION CONTACT: Ms. Milagros Lanauze. Telephone: (202) 401-0039 or via Internet: reap@ed.gov.

If you use a telecommunications device for the deaf (TDD), you may call the Federal Information Relay Service (FIRS) at 1-800-877-8339.

Individuals with disabilities may obtain this notice in an alternative format (e.g., Braille, large print, audiotape, or computer diskette) on request to the contact person listed above.

Electronic Access to This Document: You may view this document, as well as other Department of Education documents published in the Federal Register in text or Adobe Portable Document Format (PDF) on the Internet at the following site: www.ed.gov/legislation/FedRegister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: http://www.access.gpo.gov/nara/index.html.

Program Authority: Section 6212 of the ESEA, as amended by the No Child Left Behind Act of 2001 (Pub. L. 107-110).

Dated: June 3, 2002.
Susan B. Neuman,
Assistant Secretary for Elementary and Secondary, Education.

[FR Doc. 02-14280 Filed 6-6-02; 8:45 am]

BILLING CODE 4000-01-P